NUCLEAR REGULATORY COMMISSION

[Docket Nos. 50-348 and 50-364]

Southern Nuclear Operating Company, Inc., Alabama Power Company, Joseph M. Farley Nuclear Plant, Units 1 and 2; Notice of Withdrawal of Application for Amendment to Facility Operating License

The U.S. Nuclear Regulatory Commission (the Commission) has granted the request of Duke Energy Corporation (the licensee) to withdraw its December 3, 2003, application for proposed amendment to Facility Operating License Nos. NPF-2 and NPF-8 for the Joseph M. Farley Nuclear Plant, Units 1 and 2, located in Houston County, Alabama.

The proposed amendments would have revised the Technical Specifications to extend the completion time for the 1C Emergency Diesel Generator from 10 days to 13 days. This change would have allowed the continued operation of Farley Nuclear Plant, Units 1 and 2 with the inoperable diesel generator until December 13, 2003.

The Commission had previously issued a Notice of Consideration of Issuance of Amendment published in the Dothan Eagle newspaper on December 5 and 6, 2003. However, by letter dated December 9, 2003, the licensee withdrew the proposed change.

For further details with respect to this action, see the application for amendment dated December 3, 2003, and the licensee's letter dated December 9, 2003, which withdrew the application for license amendment. Documents may be examined, and/or copied for a fee, at the NRC's Public Document Room (PDR), located at One White Flint North, Public File Area O1F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 12th day of December 2003.
For the Nuclear Regulatory Commission.
Sean E. Peters,
Project Manager, Section 1, Project Directorate II, Division of Licensing Project Management, Office of Nuclear Reactor Regulation.

[FR Doc. 03-31091 Filed 12-16-03; 8:45 am]

BILLING CODE 7590-01-P